DEPARTMENT OF THE TREASURY

Internal Revenue Service

Open Meeting of the Taxpayer Advocacy Panel

AGENCY: Internal Revenue Service (IRS), Treasury.

ACTION: Notice.

SUMMARY: An open meeting of the Taxpayer Advocacy Panel will be held. The Taxpayer Advocacy Panel is soliciting public comment, ideas, and suggestions on improving customer service at the Internal Revenue Service.

DATES: The meeting will be held Tuesday, December 2, 2008, from 1:15 to 5 p.m., Wednesday, December 3, 2008, from 8 a.m. to 5 p.m., and Thursday, December 4, 2008, from 8 a.m. to 4:15 p.m.

FOR FURTHER INFORMATION CONTACT: Anita Fields at (954) 423-7974.

SUPPLEMENTARY INFORMATION: Notice is hereby given pursuant to Section 10(a)(2) of the Federal Advisory Committee Act, 5 U.S.C. App. (1988) that an open meeting of the Taxpayer Advocacy Panel will be held Tuesday, December 2, 2008, from 1:15 to 5 p.m., Wednesday, December 3, 2008, from 8 a.m. to 5 p.m., and Thursday, December 4, 2008, from 8 a.m. to 4:15 p.m., at the Sheraton National Hotel in Arlington, VA. If you would like to have the Taxpayer Advocacy Panel consider a written statement, please call (954) 423-7974, fax to (954) 423-7975, or write to Anita Fields at Taxpayer Advocacy Panel, Room 340, 1000 South Pine Island Road, Plantation, FL, 33324, or you can post comments to the web site at http://www.improveirs.org.

The agenda will include the following: Discussion of various IRS issues.

Dated: November 12, 2008.
Roy L. Block,
Acting Director, Taxpayer Advocacy Panel.

[FR Doc. E8-27861 Filed 11-21-08; 8:45 am]

BILLING CODE 4830-01-P